DEPARTMENT OF COMMERCE

International Trade Administration

(A-549-502)

Circular Welded Carbon Steel Pipes and Tubes from Thailand: Notice of Final Results of Antidumping Duty Administrative Review

AGENCY: Import Administration, International Trade Administration, Department of Commerce.

SUMMARY: On April 7, 2006, the Department of Commerce (the Department) published the preliminary results of administrative review of the antidumping duty order on circular welded carbon steel pipes and tubes from Thailand in the Federal Register. See Circular Welded Steel Pipes and Tubes from Thailand: Preliminary Results of Antidumping Duty Administrative Review, 71 FR 17810 (April 7, 2006) (Preliminary Results). The review covers one producer of the subject merchandise. The period of review is March 1, 2004 through February 28, 2005. Based on our analysis of the comments received, we have made changes to the preliminary results, which are discussed in the “Changes Since the Preliminary Results” section below. For the final dumping margins, see the “Final Results of Review” section below.

EFFECTIVE DATE: September 14, 2006.

FOR FURTHER INFORMATION CONTACT: Jacqueline Arrowsmith or Dana Mermelstein, AD/CVD Operations, Office 6, Import Administration, International Trade Administration, U.S. Department of Commerce, 14th Street & Constitution Avenue, NW., Washington, DC 20230; telephone: (202) 482-5255 or (202) 482-1391, respectively.

SUPPLEMENTARY INFORMATION:

Background

On April 7, 2006, the Department published the Preliminary Results. In the Preliminary Results, we stated our intention to request further information from Saha Thai to allow Saha Thai the opportunity to demonstrate that there are two distinct levels of trade in the home market. On April 21, 2006, we issued a supplemental questionnaire for this purpose to Saha Thai and its affiliated resellers. Saha Thai submitted its response on May 8, 2006.

We invited parties to comment on the Preliminary Results. On May 18, 2006, we provided specific deadlines. On June 1, 2006, we received a case brief from the sole respondent, Saha Thai Steel Pipe Company, Ltd. (Saha Thai) and from Allied Tube and Conduit Corporation and Wheatland Tube Company (collectively, petitioners); respondent and petitioners each submitted a rebuttal brief on June 6, 2006. On August 3, 2006, the Department published in the Federal Register a notice extending the final results from August 5, 2006 to September 7, 2006. See Extension of Time Limit for Final Results of Antidumping Duty Administrative Review: Circular Welded Carbon Steel Pipes and Tubes from Thailand, 71 FR 44016 (August 3, 2006).

Scope of the Order

The products covered by this antidumping order are certain welded carbon steel pipes and tubes from Thailand. The subject merchandise has an outside diameter of 0.375 inches or more, but not exceeding 16 inches. These products, which are commonly referred to in the industry as “standard pipe” or “structural tubing,” are hereinafter designated as “pipes and tubes.” The merchandise is classifiable under the Harmonized Tariff Schedule of the United States (HTSUS) item numbers 7306.30.1000, 7306.30.5025, 7306.30.5032, 7306.30.5040, 7306.30.5055, 7306.30.5085, and 7306.30.5090. Although the HTSUS subheadings are provided for convenience and purposes of U.S. Customs and Border Protection (CBP), our written description of the scope of the order is dispositive.

Analysis of Comments Received

The issues raised in the case and rebuttal briefs by parties to this administrative review are addressed in the Issues and Decision Memorandum to David M. Spooner, Assistant Secretary for Import Administration, from Stephen J. Claeys, Deputy Assistant Secretary for Import Administration (Decision Memorandum), dated concurrently with this notice and which is hereby adopted by this notice. A list of the issues addressed in the Decision Memorandum is appended to this notice. The Decision Memorandum is on file in the central records unit (CRU), and can be accessed directly on the Web at http://ia.ita.doc.gov/frn. The paper copy and electronic version of the Decision Memorandum are identical in content.

Changes Since the Preliminary Results

Based on our analysis of comments received, we have made adjustments to our margin calculations. The adjustments are discussed in detail in the Decision Memorandum.

Final Results of Review

As a result of our review, we determine that the following weighted-average margin exists for the period of March 1, 2004 through February 28, 2005:

Manufacturer/Exporter | Margin (percent)
Saha Thai Steel Pipe Company, Ltd. | 2.26

Assessment

The Department shall determine, and CBP shall assess, antidumping duties on all appropriate entries. Pursuant to 19 CFR 351.212(b)(1), the Department calculates an assessment rate for each importer of the subject merchandise for each respondent. Upon issuance of the final results of this administrative review, if any importer-specific rates calculated in the final results are above de minimis (i.e., at or above 0.5 percent), the Department will issue appraisement instructions directly to CBP to assess antidumping duties on appropriate entries.

To determine whether the duty assessment rates covering the period were de minimis, in accordance with the requirement set forth in 19 CFR 351.106(c)(2), for each respondent we calculated importer (or customer)-specific ad valorem rates by aggregating the dumping margins calculated for all U.S. sales to that importer or customer and dividing this amount by the total value of the sales to that importer (or customer). Where an importer (or customer)-specific ad valorem rate is greater than de minimis, and the respondent has reported reliable entered values, we apply the assessment rate to the entered value of the importer's/customer's entries during the review period. Where an importer (or customer)-specific ad valorem rate is greater than de minimis and we do not have reliable entered values, we calculate a per-unit assessment rate by aggregating the dumping duties for all U.S. sales to each importer (or customer) and dividing this amount by the total quantity sold to that importer (or customer). The Department will issue appropriate assessment instructions directly to CBP within 15 days of the final results of this review.

The Department clarified its “automatic assessment” regulation on May 6, 2003 (68 FR 23954). This clarification will apply to entries of subject merchandise during the period of review produced by the company included in these final results of review for which the reviewed company did not know their merchandise was destined for the United States. In such instances, we will instruct CBP to liquidate unreviewed entries at the “all others” rate from the investigation if there is no rate for the intermediate company involved in the transaction. See Circular Welded Carbon Steel Pipes and Tubes from Thailand; Final Determination of Sales at Less Than Fair Value, 51 FR 3384 (January 27, 1986). For a full discussion of this clarification, see Antidumping and Countervailing Duty Proceedings: Assessment of Antidumping Duties, 68 FR 23954 (May 6, 2003).

Cash Deposits

The following deposit requirements will be effective upon publication of the final results of this administrative review for all shipments of subject merchandise entered, or withdrawn from warehouse, for consumption on or after the publication date of these final results, as provided by section 751(a)(2)(c) of the Act: (1) For companies covered by this review, the cash deposit rate will be the rate listed above; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and, (4) if neither the exporter nor the producer is a firm covered in this review or in any previous segment of this proceeding, the cash deposit rate will be 15.67 percent, the “all others” rate established in the less-than-fair-value investigation.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred, and in the subsequent assessment of double antidumping duties.

Notification Regarding Administrative Protective Orders

This notice is the only reminder to parties subject to the administrative protective order (APO) of their responsibility concerning the return or destruction of proprietary information disclosed under the APO in accordance with 19 CFR 351.305(a)(3). Timely written notification of the return or destruction of APO materials or conversion to judicial protective order is hereby requested. Failure to comply with the regulations and the terms of an APO is a sanctionable violation.

We are issuing and publishing these final results and this notice in accordance with sections 751(a)(1) and 777(i)(1) of the Act.

Dated: September 7, 2006.
David M. Spooner,
Assistant Secretary for Import Administration.

Appendix I Issues in Decision Memorandum

Comment 1: Saha Thai's Revocation Request

Comment 2: Antidumping Duty Exemptions

Comment 3: Duty Drawback

Comment 4: Product Matching for Fence Tube

Comment 5: Level of Trade in the Home Market

Comment 6: Zeroing of Saha Thai's Sales

[FR Doc. E6-15271 Filed 9-13-06; 8:45 am]

BILLING CODE 3510-DS-S